NATIONAL SCIENCE FOUNDATION

Sunshine Act Meetings; National Science Board: Notice of Change

The National Science Board's ad hoc Working Group on Administrative Burdens (AB), pursuant to NSF regulations (45 CFR part 614), the National Science Foundation Act, as amended (42 U.S.C. 1862n-5), and the Government in the Sunshine Act (5 U.S.C. 552b), hereby gives notice of a change in the scheduling of a teleconference for the transaction of National Science Board business, as follows: The original Notice was published in the Federal Register on January 20, 2015.

ORIGINAL DATE & TIME: Friday, January 23, 2015, 12-1 p.m., EST.

NEW DATE & TIME: Friday, January 23, 2015, 12:30—1:30 p.m., EST.

SUBJECT MATTER: Chairman's remarks; update on NSF implementation of Uniform Guidance and Administrative Burdens Task Force recommendations; and draft comments on proposed National Institutes of Health multisite Institutional Review Board policy.

STATUS: Open.

This meeting will be held by teleconference. A public listening line will be available. Members of the public must contact the Board Office (call 703-292-7000 or send an email message to nationalsciencebrd@nsf.gov) at least 24 hours prior to the teleconference for the public listening number. Please refer to the National Science Board Web site www.nsf.gov/nsb for additional information and schedule updates (time, place, subject matter or status of meeting) which may be found at http://www.nsf.gov/nsb/notices/. Point of contact for this meeting is Jacqueline Meszaros at jmeszaro@nsf.gov.

Ann Bushmiller,
Senior Counsel to the National Science Board.

[FR Doc. 2015-01383 Filed 1-22-15; 11:15 am]

BILLING CODE 7555-01-P